SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before April 11, 2005.

ADDRESSES: Send all comments regarding whether this information collection is necessary for the proper performance of the function of the agency, whether the burden estimates are accurate, and if there are ways to minimize the estimated burden and enhance the quality of the collection, to Robert Dillier, Public Affairs Specialist, Office of Communications, Small Business Administration, 409 3rd Street SW., Suite 7450, Washington, DC 20416.

FOR FURTHER INFORMATION CONTACT: Robert Dillier, Public Affairs Specialist, (202) 205-6086 robert.dillier@sba.gov Curtis B. Rich, Management Analyst, (202) 205-7030 curtis.rich@sba.sba.

SUPPLEMENTARY INFORMATION: Title: “U.S. Small Business Administration Advisory Committee Membership-Nominee Information.”

Description of Respondents: To collect information for Candidates for Advisory Council.

Form No: 898.

Annual Responses: 100.

Annual Burden: 100.

Jacqueline White,
Chief, Administrative Information Branch.

[FR Doc. 05-2527 Filed 2-8-05; 8:45 am]

BILLING CODE 8025-01-P